Title 3—

The President

Proclamation 7540 of April 12, 2002

Pan American Day and Pan American Week, 2002

By the President of the United States of America

A Proclamation

Pan America comprises a set of regional relationships that connects the nations of the Western Hemisphere in an increasingly interdependent network of commercial and cultural communities. Every nation in Pan America, with one notable exception, is committed to promoting freedom, democracy, and the rule of law. Over the past year, the Pan American nations have become increasingly united in purpose, seeking to ensure the preservation of the freedoms inherent in democracy, to promote good governance, to enhance economic development across the hemisphere, to protect human rights, and to combat terrorism, transnational crime, and narcotics trafficking. Continued progress in achieving these goals will greatly improve the future of the Americas.

As a testament to the enduring spirit of cooperation that binds us together as citizens of North, Central, and South America, the Pan American nations have built a common front against the threat of terrorism. Meeting in consultation on September 19, 2001, the Organization of American States (OAS) Permanent Council invoked the Rio Treaty, declaring that the terrorist attacks of September 11, were attacks against all of the Americas. Later that same month, the OAS Foreign Ministers called for measures to strengthen hemispheric cooperation and adopted binding commitments, demonstrating that this hemisphere is prepared to guard the freedoms that form the foundation of democracy.

This firm response to the terrorist acts followed another milestone for the region, namely, the adoption of the Inter-American Democratic Charter. In approving this document by acclamation, the nations of the Western Hemisphere established democracy as the birthright of every person in the Americas. The words of this charter affirm that governments cannot be democracies in name only, but must build upon the guiding principles of our time and struggle to ensure the preservation of essential civil liberties.

Pan America's unprecedented spirit of cooperation bodes well for the 2004 Summit of the Americas, when we will have the opportunity to review our progress and renew commitments to enhancing hemispheric relationships. Communication, trade, travel, and advances in technology have all combined to produce unprecedented levels of integration and interdependence in the Western Hemisphere. And our continued efforts toward a Free Trade Area of the Americas exemplify our commitment to building a legal framework that opens the way to self-sustaining and wide-ranging prosperity. The free exchange of ideas and goods brings a unique vitality to our region, and serves as a catalyst for continuing economic development at the local and national levels.

This past year provided sobering evidence that our freedoms are not free. We must continue to work together as a unified community to support and defend all peoples that are denied their rights and privileges by governments that fail to respect the essential elements of democracy and human rights. In countering the threats of tyranny, poverty, and lawlessness, our collective goal must be to further the partnership we share as standard bearers of a bold vision. By working together to promote democracy, free trade, economic prosperity, effective governance, and human rights, we will keep the new Pan American spirit of freedom and cooperation alive and well for generations to come.

NOW, THEREFORE, I, GEORGE W. BUSH, President of the United States of America, by virtue of the authority vested in me by the Constitution and laws of the United States, do hereby proclaim April 14, 2002, as Pan American Day and April 14 through April 20, 2002, as Pan American Week. I urge the Governors of the 50 States, the Governor of the Commonwealth of Puerto Rico, and the officials of other areas under the flag of the United States of America to honor these observances with appropriate ceremonies and activities.

IN WITNESS WHEREOF, I have hereunto set my hand this twelfth day of April, in the year of our Lord two thousand two, and of the Independence of the United States of America the two hundred and twenty-sixth.

B

[FR Doc. 02-9606

Filed 4-16-02; 8:45 am]

Billing code 3195-01-P